DEPARTMENT OF HEALTH AND HUMAN SERVICES

Office of the Secretary

45 CFR Parts 160 and 162

[CMS-0037-N]

Administrative Simplification: Certification of Compliance for Health Plans; Extension of Comment Period

AGENCY: Office of the Secretary, HHS.

ACTION: Proposed rule; extension of the comment period.

SUMMARY: This document extends the comment period for the Administrative Simplification: Certification of Compliance for Health Plans proposed rule, which was published in the January 2, 2014 Federal Register. The comment period for the proposed rule, which would have ended on March 3, 2014, is extended to April 3, 2014.

DATES: The comment period for the proposed rule published in the January 2, 2014 Federal Register (79 FR 298) is extended to April 3, 2014.

ADDRESSES: In commenting, please refer to file code CMS-0037-P. Because of staff and resource limitations, we cannot accept comments by facsimile (FAX) transmission.

You may submit comments in one of four ways (please choose only one of the ways listed):

1. You may submit electronic comments on this regulation to http://www.regulations.gov. Follow the “Submit a comment” instructions.

2. By regular mail. You may mail written comments to the following address ONLY:

Centers for Medicare & Medicaid Services, Department of Health and Human Services, Attention: CMS-0037-P, P.O. Box 8013, Baltimore, MD 21244-8013.

Please allow sufficient time for mailed comments to be received before the close of the comment period.

3. By express or overnight mail. You may send written comments to the following address ONLY:

Centers for Medicare & Medicaid Services, Department of Health and Human Services, Attention: CMS-0037-P, Mail Stop C4-26-05, 7500 Security Boulevard, Baltimore, MD 21244-1850.

4. By hand or courier. If you prefer, you may deliver (by hand or courier) your written comments before the close of the comment period to either of the following addresses:

a. For delivery in Washington, DC—

Centers for Medicare & Medicaid Services, Department of Health and Human Services, Room 445-G, Hubert H. Humphrey Building, 200 Independence Avenue SW., Washington, DC 20201.

(Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—

Centers for Medicare & Medicaid Services, Department of Health and Human Services, 7500 Security Boulevard, Baltimore, MD 21244-1850.

If you intend to deliver your comments to the Baltimore address, please call telephone number (410) 786-7195 in advance to schedule your arrival with one of our staff members.

Comments mailed to the addresses indicated as appropriate for hand or courier delivery may be delayed and received after the comment period.

FOR FURTHER INFORMATION CONTACT: Geanelle G. Herring, (410) 786-4466. Matthew Albright, (410) 786-2546.

SUPPLEMENTARY INFORMATION: In the January 2, 2014 Federal Register (79 FR 298), we published the Administrative Simplification: Certification of Compliance for Health Plans proposed rule (hereafter, Compliance Certification proposed rule), which proposes that controlling health plans must submit certain information and documentation that demonstrates compliance with the standards and operating rules adopted under the Health Insurance Portability and Accountability Act of 1996 (HIPAA) for three electronic transactions: Eligibility for a health plan, health care claim status, and health care electronic funds transfers (EFT) and remittance advice. This proposed rule would also establish penalty fees for a CHP that fails to comply with the certification of compliance requirements.

The proposed rule is different from previous HIPAA administrative simplification regulations in that the number and type of entities that would be impacted by the requirements is much greater. For example, many self-funded health plans that meet the HIPAA definition of health plan would be subject to the requirements in the proposed rule; however, many self-funded health plans have not been impacted by previous HIPAA administrative simplification requirements because many do not directly conduct HIPAA covered transactions.

Representatives of entities that are new to HIPAA administrative simplification requirements have requested more time to analyze the Compliance Certification proposed rule and educate themselves and their peers, as well as solicit feedback from their membership on the business impact of the propose rule, which they believe can be better achieved with more time for public comments. We concur. Therefore, we are extending the comment period until April 3, 2014.

Dated: February 27, 2014.
Oliver A. Potts,
Deputy Executive Secretary to the Department, Department of Health and Human Services.

[FR Doc. 2014-04828 Filed 2-28-14; 4:15 pm]

BILLING CODE 4120-01-P